DEPARTMENT OF DEFENSE

Department of the Navy

Meeting of the Board of Advisors (BOA) to the President, Naval Postgraduate School (NPS)

AGENCY: Department of the Navy, DoD.

ACTION: Notice.

SUMMARY: Pursuant to the provisions of The Federal Advisory Committee Act (Pub. L. 92-463, as amended), notice is hereby given that the following meeting of the Board of Advisors to the President, Naval Postgraduate School will be held.

DATES: The meeting will be held on Tuesday, October 16, 2007, from 8 a.m. to 4 p.m. (open) and on Wednesday, October 17, 2007, from 8 a.m. to 12 p.m. (partially closed) Eastern Time Zone.

ADDRESSES: The meeting will be held at the Office of Naval Research, 875 N. Randolph Street, Suite 1435, Arlington, VA.

FOR FURTHER INFORMATION CONTACT: Ms. Jaye Panza, Naval Postgraduate School, Monterey, CA, 93943-5001, telephone number: 831-656-2514.

SUPPLEMENTARY INFORMATION: The purpose of the meeting is to elicit the advice of the Board on the Naval Service's Postgraduate Education Program and the collaborative exchange and partnership between NPS and the Air Force Institute of Technology (AFIT). The board examines the effectiveness with which the NPS is accomplishing its mission. To this end, the board will inquire into the curricula; instruction; physical equipment; administration; state of morale of the student body, faculty, and staff; fiscal affairs; and any other matters relating to the operation of the NPS as the board considers pertinent.

This meeting will be open to the public on Tuesday, October 16, 2007, from 8 a.m.-4 p.m. and on Wednesday, October 17, 2007, from 8 a.m.-10 a.m. The Board will meet in closed executive session on Wednesday, October 17, 2007, from 10 a.m.-12 p.m. in accordance with the provision set forth in section 552b(c) of Title 5 U.S.C. in order to discuss nominations for Board vacancies and personnel issues. The closed session will disclose information of a personal nature where disclosure would constitute an unwarranted invasion of personal privacy. Individuals without a DoD government/CAC card require an escort at the meeting location. For access, information, or to send written comments regarding the NPS BOA contact Ms. Jaye Panza, Naval Postgraduate School, 1 University Circle, Monterey, CA 93943-5001 or by fax 831-656-3145 by October 5, 2007.

Dated: September 4, 2007.
T.M. Cruz,
Lieutenant, Judge Advocate Generals Corps, U.S. Navy, Federal Register Liaison Officer.

[FR Doc. E7-17765 Filed 9-7-07; 8:45 am]

BILLING CODE 3810-FF-P